DEPARTMENT OF DEFENSE

Defense Acquisition Regulations System

48 CFR Part 213

RIN 0750-AF42

Defense Federal Acquisition Regulation Supplement; Aviation Into-Plane Reimbursement Card (DFARS Case 2006-D017)

AGENCY: Defense Acquisition Regulations System, Department of Defense (DoD).

ACTION: Final rule.

SUMMARY: DoD has issued a final rule amending the Defense Federal Acquisition Regulation Supplement (DFARS) to update text pertaining to DoD fuel card programs. The rule addresses use of the Aviation Into-plane Reimbursement card for purchases of aviation fuel and oil.

EFFECTIVE DATE: February 12, 2007.

FOR FURTHER INFORMATION CONTACT: Mr. Gary Delaney, Defense Acquisition Regulations System, OUSD(AT&L)DPAP(DARS), IMD 3C132, 3062 Defense Pentagon, Washington, DC 20301-3062. Telephone (703) 602-8384; facsimile (703) 602-0350. Please cite DFARS Case 2006-D017.

SUPPLEMENTARY INFORMATION:

A. Background

DoD uses the Aviation Into-plane Reimbursement (AIR) card for purchases of aviation fuel and oil at commercial airport facilities. The AIR card is a centrally-billed, Government commercial purchase card that is an alternative to use of the Standard Form 44, Purchase Order-Invoice-Voucher. This final rule amends DFARS 213.306 to address use of the AIR card. In addition, the rule amends DFARS 213.301 to clarify that DoD has multiple fuel card programs.

DoD published a proposed rule at 71 FR 34867 on June 16, 2006. DoD received no comments on the proposed rule and has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the Aviation Into-plane Reimbursement card is an alternative to use of the Standard Form 44, Purchase Order-Invoice-Voucher, designed primarily for on-the-spot, over-the-counter purchases while away from the purchasing office or at isolated activities.

C. Paperwork Reduction Act

The Paperwork Reduction Act does not apply, because the rule does not impose any information collection requirements that require the approval of the Office of Management and Budget under 44 U.S.C. 3501, et seq.

List of Subjects in 48 CFR Part 213

Government procurement.

Michele P. Peterson,
Editor, Defense Acquisition Regulations System.

Therefore, 48 CFR Part 213 is amended as follows:

PART 213—SIMPLIFIED ACQUISITION PROCEDURES

1. The authority citation for 48 CFR Part 213 continues to read as follows:

Authority: 41 U.S.C. 421 and 48 CFR Chapter 1.

213.301 [Amended]

2. Section 213.301 is amended in paragraph (4), in the second sentence, by removing “program” and adding in its place “programs”.

3. Section 213.306 is amended by revising paragraph (a)(1)(A) to read as follows:

213.306 SF 44, Purchase Order-Invoice-Voucher.

(a)(1) * * *

(A) Aviation fuel and oil. The Aviation Into-plane Reimbursement (AIR) card may be used instead of an SF 44 for aviation fuel and oil (see http://www.desc.dla.mil);

* * * * *

[FR Doc. E7-2210 Filed 2-9-07; 8:45 am]

BILLING CODE 5001-08-P